DEPARTMENT OF TRANSPORTATION

Federal Railroad Administration

[Docket Number FRA-2009-0111]

Notice of Petition for Waiver of Compliance and Scheduling of Public Hearing Association of American Railroads

In accordance with part 211 of Title 49 of the Code of Federal Regulations (CFR), this document provides notice that the Association of American Railroads (AAR) has petitioned the Federal Railroad Administration (FRA) for a waiver of compliance from certain requirements of 49 CFR parts 234 and 236, as detailed below. FRA has assigned the petition Docket Number FRA-2009-0111.

AAR seeks a waiver on behalf of its member railroads from the monthly inspections and test requirements for signal systems set forth at 49 CFR 234.249, 234.251, 234.253, 234.255, 234.257, 234.261, 236.382, and 236.576. AAR seeks explicit authorization for its members to conduct the inspections and tests required by these regulatory provisions at intervals of up to 35 days, as opposed to at least once each month. A copy of AAR's full petition is available for review online at http://www.regulations.gov.

Because the time frames for conducting various inspections and tests required by 49 CFR parts 234 and 236 (including the sections at issue in AAR's waiver petition) have been the subject of much discussion in the industry over the last several years and also the subject of previous waiver requests, FRA believes holding a public hearing on the issues presented by AAR's petition would be beneficial. Accordingly, FRA invites all interested persons to participate in a public hearing addressing the time frames of the tests and inspections that are the subject of AAR's request.

DATES: (1) Public Hearing: A public hearing will be held on February 10, 2010, at 9:30 a.m. in Washington DC.

(2) Comments: Interested parties may submit comments relevant to this waiver request and/or issues discussed at the hearing to the address noted below. Such written material should be submitted by March 12, 2010. Comments submitted after that date will be considered to the extent possible.

ADDRESSES: (1) Public Hearing: The public hearing will be held at the Marriott Washington Wardman Park, 2660 Woodley Road, NW., Washington, DC, 20008.

(2) Attendance: Any persons wishing to make a statement at the hearing should notify FRA's Docket Clerk, Michelle Silva, by telephone, e-mail, or in writing, at least 5 business days before the date of the hearing. Ms. Silva's contact information is as follows: FRA, Office of Chief Counsel, Mail Stop 10, 1200 New Jersey Avenue, SE., Washington, DC 20590; telephone 202-493-6030; e-mail michelle.silva@dot.gov. For information on facilities or services for persons with disabilities or to request special assistance at the meeting, contact Ms. Silva by telephone or e-mail as soon as possible.

(3) Comments: Anyone wishing to file a comment related to this waiver petition or issues raised at the hearing should refer to FRA Docket Number FRA-2009-0111. You may submit your comments and related material by any of the following methods:

• Internet: http://www.regulations.gov. Follow the online instructions for submitting comments.

• Fax: 202-493-2251.

• Mail: Docket Operations Facility, U.S. Department of Transportation, 1200 New Jersey Avenue, SE., W12-140, Washington, DC 20590.

• Hand Delivery: Docket Operations Facility, U.S. Department of Transportation, 1200 New Jersey Avenue, SE., Room W12-140, Washington, DC 20590, between 9 a.m. and 5 p.m., Monday through Friday, except Federal Holidays.

All written communications submitted in response to this notice will be available for examination at the above-facility during regular business hours (9 a.m. to 5 p.m.), Monday through Friday, except Federal holidays. All documents in the public docket are also available for inspection and download on the internet at the docket facility's Web site at http://www.regulations.gov.

Anyone is able to search the electronic form of any written communications and comments received into any of our dockets by the name of the individual submitting the comment (or signing the comment, if submitted on behalf of an association, business, labor union, etc.) You may review DOT's complete Privacy Act Statement in the Federal Register published on April 11, 2000 (Volume 65, Number 70; Pages 19477-78).

Issued in Washington, DC on December 28, 2009.
Grady C. Cothen, Jr.,
Deputy Associate Administrator for Safety Standards and Program Development.

[FR Doc. E9-31110 Filed 12-31-09; 8:45 am]

BILLING CODE 4910-06-P